DEPARTMENT OF THE INTERIOR

Fish and Wildlife Service

50 CFR Part 17

[Docket No. FWS-HQ-ES-2023-0033; FXES1113090FEDR-256-FF09E22000]

RIN 1018-BH98

Endangered and Threatened Wildlife and Plants; Endangered Species Status for the Blue Tree Monitor

AGENCY: Fish and Wildlife Service, Interior.

ACTION: Proposed rule; reopening of comment period and announcement of public hearing.

SUMMARY: We, the U.S. Fish and Wildlife Service (Service), are reopening the comment period on our December 26, 2024, proposed rule to list the blue tree monitor (Varanus macraei), a lizard species from Indonesia, as an endangered species under the Endangered Species Act of 1973, as amended (Act). We are taking this action to allow interested parties an additional opportunity to comment on the proposed rule and to conduct a public hearing. Comments previously submitted need not be resubmitted and will be fully considered in preparation of the final rule.

DATES: Comment submission: The public comment period on the proposed rule that published on December 26, 2024, at 89 FR 104952 is reopened. We will accept comments received on or before August 15, 2025. Comments submitted electronically using the Federal eRulemaking Portal (see ADDRESSES, below) must be received by 11:59 p.m. Eastern Time on the closing date, and comments submitted by U.S. mail must be received by that date to ensure consideration.

Public hearing: On July 31, 2025, we will hold a public hearing on the proposed rule to list the blue tree monitor as an endangered species under the Act from 12 to 2 p.m. Eastern Time, using the Zoom platform (for more information, see Public Hearing, below).

ADDRESSES: Comment submission: You may submit comments by one of the following methods:

(1) Electronically: Go to the Federal eRulemaking Portal: https://www.regulations.gov. In the Search box, enter FWS-HQ-ES-2023-0033, which is the docket number for the proposed rule. Then, click on the Search button. On the resulting page, in the Search panel on the left side of the screen, under the Document Type heading, check the Proposed Rule box to locate this document. You may submit a comment by clicking on “Comment.”

(2) By hard copy: Submit by U.S. mail to: Public Comments Processing, Attn: FWS-HQ-ES-2023-0033, U.S. Fish and Wildlife Service, MS: PRB/3W, 5275 Leesburg Pike, Falls Church, VA 22041-3803.

We request that you send comments only by the methods described above. We will post all comments on https://www.regulations.gov. This generally means that we will post any personal information you provide us (see Information Requested, below, for more information).

Document availability: The December 26, 2024, proposed rule and its supporting documents, including the species status assessment report, are available at https://www.regulations.gov under Docket No. FWS-HQ-ES-2023-0033.

Public hearing: Interested parties may present verbal testimony (formal, oral comments) at a public hearing, which will be held virtually using the Zoom platform. See Public Hearing, below, for more information.

FOR FURTHER INFORMATION CONTACT: Rachel London, Manager, Branch of Delisting and Foreign Species, Ecological Services Program, U.S. Fish and Wildlife Service; telephone 703-358-2171; Rachel_London@fws.gov. Individuals in the United States who are deaf, deafblind, hard of hearing, or have a speech disability may dial 711 (TTY, TDD, or TeleBraille) to access telecommunications relay services. Individuals outside the United States should use the relay services offered within their country to make international calls to the point-of-contact in the United States. Please see Docket No. FWS-HQ-ES-2023-0033 on https://www.regulations.gov for a document that summarizes the December 26, 2024, proposed rule.

SUPPLEMENTARY INFORMATION:

Information Requested

We intend that any final action resulting from our December 26, 2024, proposed rule (89 FR 104952) will be based on the best scientific and commercial data available and be as accurate and as effective as possible. Therefore, we request comments or information from other governmental agencies, Native American Tribes, the scientific community, industry, or any other interested parties concerning our proposed rule. In addition to the information requested in our proposed rule, we also seek comments concerning:

(1) Verifiable information demonstrating successful breeding of blue tree monitors in captivity, particularly evidence of legal acquisition of breeding stock and production of a second filial (F2) generation, or subsequent generation.

(2) New information that leads us to conclude the blue tree monitor is threatened instead of endangered and information to assist us with applying or issuing protective regulations under section 4(d) of the Act (a “4(d) rule”) that may be necessary and advisable to provide for the conservation of the blue tree monitor. In particular, we seek information concerning:

(a) The extent to which we should include any of the Act's section 9(a)(1) prohibitions in the 4(d) rule (including import, export, take, activities with unlawfully taken specimens, and activities in interstate or foreign commerce);

(b) Whether we should consider any modifications or additional exceptions from the prohibitions in the 4(d) rule (for example, an exception for interstate commerce of live blue tree monitors bred in captivity in the United States in accordance with the requirements of the Convention on International Trade in Endangered Species of Wild Fauna and Flora (CITES); or an exception for interstate commerce of live blue tree monitors from one public institution to another public institution);

and

(c) Additional information describing the adequacy or inadequacy of protections afforded to the blue tree monitor via CITES trade regulations, regulations of the range country, or any other relevant regulations.

Please include sufficient information with your submission (such as scientific journal articles or other publications; evidence of legal acquisition of breeding stock and specimens successfully bred-in-captivity; copies of relevant laws, regulations, or permits) to allow us to verify any scientific or commercial information you include.

Please note that submissions merely stating support for, or opposition to, the action under consideration without providing supporting information, although noted, do not provide substantial information necessary to support a determination. Section 4(b)(1)(A) of the Act (16 U.S.C. 1533(b)(1)(A)) directs that determinations as to whether any species is an endangered or a threatened species must be made solely on the basis of the best scientific and commercial data available. Comments or information already submitted on the proposed rule (89 FR 104952, December 26, 2024) need not be resubmitted. Any such comments are already incorporated as part of the public record of the rulemaking proceeding, and we will fully consider them as part of the action.

You may submit your comments and materials concerning the December 26, 2024, proposed rule by one of the methods listed in ADDRESSES. We request that you send comments only by the methods described in ADDRESSES.

If you submit information via https://www.regulations.gov, your entire submission—including any personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the December 26, 2024, proposed rule, will be available for public inspection on https://www.regulations.gov.

Our final determination may differ from the December 26, 2024, proposal because we will consider all comments we receive during the comment period as well as any information that may become available after the proposal. Based on the new information we receive (and, if relevant, any comments on that new information), we may conclude that the species is threatened instead of endangered, or we may conclude that the species does not warrant listing as either an endangered species or a threatened species. In our final rule, we will clearly explain our rationale and the basis for our final decision, including why we made changes, if any, that differ from the December 26, 2024, proposal.

Background

On December 26, 2024, we published a proposed rule (89 FR 104952) to list the blue tree monitor as an endangered species under the Act (16 U.S.C. 1531 et seq.). The proposed rule opened a 60-day public comment period, ending February 24, 2025. During the open comment period, we received a request for a public hearing on the proposed rule. Therefore, we are reopening the comment period on the proposal and announcing a public hearing (see DATES, above) to allow the public an additional opportunity to provide comments on the proposed rule to list the blue tree monitor.

For a description of previous Federal actions concerning the blue tree monitor and more information on the types of comments that would be helpful to us in promulgating this rulemaking action, please refer to the December 26, 2024, proposed rule (89 FR 104952).

Public Hearing

We are holding a public hearing to accept comments on our December 26, 2024, proposed rule (89 FR 104952) on the date and at the time listed above in DATES. We are holding the public hearing via the Zoom online video platform and via teleconference so that participants can attend remotely. For security purposes, registration is required. All participants must register in order to listen and view the hearing via Zoom, listen to the hearing by telephone, or provide oral public comments at the hearing by Zoom or telephone. For information on how to register, or if technical problems occur joining Zoom on the day of the hearing, visit https://www.fws.gov/event/virtual-public-hearing-proposed-listing-blue-tree-monitor.

Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the December 26, 2024, proposed rule to list the blue tree monitor as an endangered species (89 FR 104952). The public hearing will not be an opportunity for dialogue with the Service but rather a forum for accepting formal verbal testimony. In the event there is a large attendance, the time allotted for oral statements may be limited. Therefore, anyone wishing to make an oral statement at the public hearing for the record is encouraged to provide a prepared written copy of their statement to us through the Federal eRulemaking Portal or U.S. mail (see ADDRESSES, above). There are no limits on the length of written comments submitted to us. Anyone wishing to make an oral statement at the public hearing must register before the hearing (https://www.fws.gov/event/virtual-public-hearing-proposed-listing-blue-tree-monitor). The use of a virtual public hearing is consistent with our regulations at 50 CFR 424.16(c)(3).

Reasonable Accommodation

The Service is committed to providing access to the public hearing for all participants. Closed captioning will be available during the public hearing. Further, a full audio and video recording and transcript of the public hearing will be posted online at https://www.fws.gov/event/virtual-public-hearing-proposed-listing-blue-tree-monitor after the hearing. Participants will also have access to live audio during the public hearing via their telephone or computer speakers. Persons with disabilities requiring reasonable accommodations to participate in the hearing should contact the person listed under FOR FURTHER INFORMATION CONTACT at least 5 business days prior to the date of the hearing to help ensure availability. See https://www.fws.gov/event/virtual-public-hearing-proposed-listing-blue-tree-monitor for more information about reasonable accommodation.

Authority

The authority for this action is the Endangered Species Act of 1973, as amended (16 U.S.C. 1531 et seq.).

Signing Authority

Paul Souza, Regional Director, Region 8, Exercising the Delegated Authority of the Director of the U.S. Fish and Wildlife Service, approved this action on June 13, 2025, for publication. On June 18, 2025, Paul Souza authorized the undersigned to sign the document electronically and submit it to the Office of the Federal Register for publication as an official document of the U.S. Fish and Wildlife Service.

Madonna Baucum,
Regulations and Policy Chief, Division of Policy, Economics, Risk Management, and Analytics of the Joint Administrative Operations, U.S. Fish and Wildlife Service.

[FR Doc. 2025-11539 Filed 7-15-25; 8:45 am]

BILLING CODE 4333-15-P